DEPARTMENT OF THE TREASURY

Community Development Financial Institutions Fund

Proposed Collection; Comment Request

ACTION: Notice and request for comments.

SUMMARY: The U.S. Department of the Treasury, as part of its continuing effort to reduce paperwork and respondent burden, invites the general public and other Federal agencies to take this opportunity to comment on proposed information collections, as required by the Paperwork Reduction Act of 1995, Public Law 104-13 (44 U.S.C. 3506(c)(2)(A)). Currently, the Community Development Financial Institutions (CDFI) Fund, Department of the Treasury, is soliciting comments concerning the Financial Education and Counseling (FEC) Pilot Program Application.

DATES: Written comments should be received on or before April 26, 2010 to be assured of consideration.

ADDRESSES: Direct all comments to Jodie Harris, Associate Program Manager, at the Community Development Financial Institutions Fund, U.S. Department of the Treasury, 601 13th Street, NW., Suite 200 South, Washington, DC 20005, by e-mail to cdfihelp@cdfi.treas.gov or by facsimile to (202) 622-7754. This is not a toll free number.

FOR FURTHER INFORMATION CONTACT: The FEC Pilot Program Application may be obtained from the FEC page of the CDFI Fund's Web site at http://www.cdfifund.gov. Requests for additional information should be directed to Jodie Harris, Associate Program Manager, Community Development Financial Institutions Fund, U.S. Department of the Treasury, 601 13th Street, NW., Suite 200 South, Washington, DC 20005, or call (202) 622-6355. This is not a toll free number.

SUPPLEMENTARY INFORMATION: Title: Financial Education and Counseling Pilot Program Application.

OMB Number: 1559-0034.

Abstract: The purpose of the FEC Pilot Program is to provide financial assistance awards to eligible organizations to provide a range of financial education and counseling services to prospective homebuyers. The FEC Pilot Program was authorized in July of 2008 under Section 1132 of the Housing and Economic Recovery Act of 2008 (Pub. L. 110-289). In March, 2009, $2 million was appropriated for this program under the Omnibus Appropriations Act of 2009 (Pub. L. 111-8), and in December, 2009, $4.15 million was appropriated for this program under the Consolidated Appropriations Act of 2010 (Pub. L. 111-117).

Current Actions: New collection.

Type of Review: Regular Review.

Affected Public: Certified CDFIs, counseling agencies certified by the U.S. Department of Housing and Urban Development, credit unions, State, local, and tribal governments.

Estimated Number of Respondents: 75.

Estimated Annual Time per Respondent: 40 hours.

Estimated Total Annual Burden Hours: 3,000 hours.

Requests for Comments: Comments submitted in response to this notice will be summarized and/or included in the request for Office of Management and Budget approval. All comments will become a matter of public record and will be published on the CDFI Fund Web site at http://www.cdfifund.gov. Comments are invited on: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology; and (e) estimates of capital or start-up costs and costs of operation, maintenance, and purchase of services to provide information.

Authority: Pub. L. 110-289.

Dated: February 18, 2010.
Scott Berman,
Acting Chief Operating Officer, Community Development Financial Institutions Fund.

[FR Doc. 2010-3550 Filed 2-22-10; 8:45 am]

BILLING CODE 4810-70-P